DEPARTMENT OF LABOR

Mine Safety and Health Administration

[OMB Control No. 1219-0154]

Proposed Extension of Information Collection; Performance Reports for MSHA Grants

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Currently, the Mine Safety and Health Administration (MSHA) is soliciting comments on the information collection for Performance Reports for MSHA Grants.

DATES: All comments must be received on or before February 16, 2021.

ADDRESSES: You may submit comment as follows. Please note that late, untimely filed comments will not be considered.

Electronic Submissions: Submit electronic comments in the following way:

• Federal eRulemaking Portal: https://www.regulations.gov. Follow the instructions for submitting comments for docket number MSHA-2020-0037. Comments submitted electronically, including attachments, to https://www.regulations.gov will be posted to the docket, with no changes. Because your comment will be made public, you are responsible for ensuring that your comment does not include any confidential information that you or a third party may not wish to be posted, such as your or anyone else's Social Security number or confidential business information.

• If you want to submit a comment with confidential information that you do not wish to be made available to the public, submit the comment as a written/paper submission.

Written/Paper Submissions: Submit written/paper submissions in the following way:

• Mail/Hand Delivery: Mail or visit DOL-MSHA, Office of Standards, Regulations, and Variances, 201 12th Street South, Suite 4E401, Arlington, VA 22202-5452.

• MSHA will post your comment as well as any attachments, except for information submitted and marked as confidential, in the docket at https://www.regulations.gov.

FOR FURTHER INFORMATION CONTACT: Roslyn B. Fontaine, Deputy Director, Office of Standards, Regulations, and Variances, MSHA, at MSHA.information.collections@dol.gov (email); (202) 693-9440 (voice); or (202) 693-9441 (facsimile).

SUPPLEMENTARY INFORMATION:

I. Background

Section 103(h) of the Federal Mine Safety and Health Act of 1977 (Mine Act), 30 U.S.C. 813(h), authorizes the Mine Safety and Health Administration (MSHA) to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal and metal and nonmetal mines.

MSHA works to prevent death, illness, and injury from mining and to promote safe and healthful workplaces for U.S. miners. Section 115 of the Mine Act, as amended, requires mine operators to have a health and safety training program. Under section 503 of the Mine Act, as amended, the Secretary may award grants to States to assist in developing and enforcing State mining laws and regulations, to improve State workers' compensation and mining occupational disease laws and programs, and to improve safety and health conditions in the Nation's mines through Federal-State coordination and cooperation.

Grantees are required by U.S. Department of Labor (DOL) regulations to submit project and final reports. Grantees are also required to submit final reports no later than 90 days after the end of the grant period.

Technical Project Reports: A grantee submits a technical project report to MSHA no later than 30 days after quarterly deadlines. Technical project reports provide both quantitative and qualitative information and a narrative assessment of performance for the preceding 3-month period. This includes a comparison of the current grant progress against the overall grant goals. Between reporting dates, the grantee informs MSHA of significant developments or problems affecting the organization's ability to accomplish the work.

Final Reports: At the end of the grant period, each grantee provides a project summary of its technical project reports, an evaluation report, and a close-out financial report. These final reports are due no later than 90 days after the end of the 12-month performance period.

II. Desired Focus of Comments

MSHA is soliciting comments concerning the proposed information collection related to Performance Reports for MSHA Grants. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and in DOL-MSHA located at 201 12th Street South, Suite 4E401, Arlington, VA 22202-5452. Questions about the information collection requirements may be directed to the person listed in the FOR FURTHER INFORMATION CONTACT section of this notice from the previous collection of information.

III. Current Actions

This information collection request concerns provisions for Performance Reports for MSHA Grants. MSHA has updated the data with respect to the number of respondents, responses, burden hours, and burden costs supporting this information collection request from the previous information collection request.

Type of Review: Extension, without change, of a currently approved collection.

Agency: Mine Safety and Health Administration.

OMB Number: 1219-0154.

Affected Public: Business or other for-profit.

Number of Respondents: 50.

Frequency: On occasion.

Number of Responses: 250.

Annual Burden Hours: 625 hours.

Annual Respondent or Recordkeeper Cost: $0.

MSHA Forms: MSHA Performance Report Narratives; and MSHA Form 5000-50, MSHA State Grant Program Performance Report.

Comments submitted in response to this notice will be summarized in the request for Office of Management and Budget approval of the proposed information collection request; they will become a matter of public record and will be available at https://www.reginfo.gov.

Roslyn B. Fontaine,
Certifying Officer.

[FR Doc. 2020-27929 Filed 12-17-20; 8:45 am]

BILLING CODE 4510-43-P